DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-044. Applicant: Dartmouth College, 6015 McNutt, Room 104, Hanover, NH 03755. Instrument: Electron Microscope, Model JEM-1010. Manufacturer: JEOL Ltd., Japan. Intended Use: The instrument is intended to be used to study the basic principles of chromosome movement during cell division. Cells are grown in culture and at precise times during the cell cycle they are chemically fixed and embedded in acrylic polymer plastic. The cells are then cut into very thin sections and used to examine very fine mechanistic aspects of chromosome attachment to the spindle, the structure responsible for chromosome movement. Application accepted by Commissioner of Customs: September 27, 2002.

Docket Number: 02-046. Applicant: Brandeis University, Rosenstiel Research Center (MS-029), 415 South Street, Waltham, MA 02454-9114. Instrument: Electron Microscope, Model Tecnai F30 TWIN. Manufacturer: FEI Company, The Netherlands. Intended Use: The instrument is intended to be used to study biological assemblies of proteins and collect images of these complexes which are then analyzed by computer to determine three-dimensional structures. Electron scattering and image formation will also be studied. Application accepted by Commissioner of Customs: October 31, 2002.

Gerald A. Zerdy,
Program Manager, Statutory Import Programs Staff.

[FR Doc. 02-29794 Filed 11-21-02; 8:45 am]

BILLING CODE 3510-DS-P